DEPARTMENT OF HOUSING AND URBAN DEVELOPMENT

[Docket No. FR-7092-N-39]

Privacy Act of 1974; System of Records

AGENCY: Office of Administration, HUD.

ACTION: Notice of a new system of records.

SUMMARY: Pursuant to the provisions of the Privacy Act of 1974, as amended, the Department of the Housing and Urban Development (HUD), proposes a new Privacy Act System of Records titled, Customer Relationship Management, to include all “Customer Relationship Management” systems in use by HUD. This notice incorporates the One Stop Customer Service, HUD Central, and Microsoft Dynamics systems. HUD's Customer Relation Management systems are designed to track, organize, rout, and respond to HUD's customer, which includes members of the public, individuals or organizations doing business with HUD, and other stakeholders who have an interest in how HUD operates.

DATES: Comments will be accepted on or before November 29, 2024. This proposed action will be effective on the date following the end of the comment period unless comments are received which result in a contrary determination.

ADDRESSES: Interested persons may submit comments, identified by docket number or by one of the following methods:

Federal e-Rulemaking Portal: http://www.regulations.gov. Follow the instructions provided on that site to submit comments electronically.

Fax: 202-619-8365.

Email: www.privacy@hud.gov.

Mail: Attention: Privacy Office; LaDonne White, Chief Privacy Officer; Office of the Executive Secretariat, 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: LaDonne White; 451 Seventh Street, SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This Customer Relationship Management Systems SORN, combines The One Stop Customer Service, Microsoft Dynamics CRM, and HUD Central documenting the use of Customer Relationship Management systems to manage, track, route, and respond to interactions with all customers, stakeholders, partners, and organizations who initiate a customer service interaction with the Department. These customer relationship management systems are being combined as one system of record notification because they serve the same purpose, have the same authorization language, and function to provide customer service to HUD's customers. The Office of Field Policy and Management, used Microsoft Dynamics, and interacts with all of HUD's customers as they are the main presence in every HUD field office. The Federal Housing Administration, using HUD Central, focuses on Single-family FHA lenders and borrowers, HUD subsidized multifamily residents, and Hospital Skilled Nursing, Assisted Living developers and lenders. One Stop Customer Service, in the Office of Public and Indian Housing's Real Estate Assessment Center, focuses on technical assistance and program protocols for inspectors of HUD funded assets.

SYSTEM NAME AND NUMBER:

Customer Relationship Management Systems HUD/FPM-01.

SECURITY CLASSIFICATION:

Unclassified.

SYSTEM LOCATION:

The files are maintained at the following locations: Microsoft Dynamics CRM—Microsoft AzureGov Virginia datacenter, 101 Herbert Drive, Boydton, VA, 23917; HUD Central—HUD Salesforce General Support System (GSS) in the Salesforce Government Cloud environment; One Stop Customer Service—Department of Housing and Urban Development, 451 Seventh Street SW, Washington, DC 20410.

SYSTEM MANAGER(S):

Microsoft Dynamics CRM, Office of Field Policy and Management, Tony Hebert, Director of Data, Technology, and CX, (678) 732-2075, 77 Forsyth Street SW, Atlanta GA, 30303.

HUDCentral, Federal Housing Administration, Walter Ouzts, (202) 402-2286, U.S Department of Housing and Urban Development, 451 7th Street SW, Washington, DC 20410-0001.

One Stop Customer Service, Office of Public and Indian Housing (PIH), Ashley Leia Sheriff, Deputy Assistant Secretary, Real Estate Assessment Center, 202-402-4162, 550 12th Street SW, Suite 100, Washington, DC 20410-0001.

AUTHORITY FOR MAINTENANCE OF THE SYSTEM:

Section 2 of The Department of Housing and Urban Development Act of 1965, 42 U.S.C. 3531, Executive Order 12160 and the Housing and Community Development Act of 1974, Public Law 93-383.; Executive Order 14058; Executive Order 13571 Executive Order 12862

PURPOSE(S) OF THE SYSTEM:

The purpose of these systems is to manage, track, route, and respond to interactions the Department has with the public, stakeholders, partners, and other organizations interested in how HUD does business, such as advocacy groups, professional organizations, congress, and the media.

CATEGORIES OF INDIVIDUALS COVERED BY THE SYSTEM:

For all three systems Individuals, public stakeholders, partners, and other organizations interested in how HUD does business.

CATEGORIES OF RECORDS IN THE SYSTEM:

Microsoft Dynamics CRM collects name, phone number, secondary phone number, email, secondary email and address.

HUD Central collects name, phone number, secondary phone number, email address, secondary email address, account number and taxpayer ID number.

One Stop Customer Service collects name, phone number, secondary phone number, email secondary email, address, and account number.

RECORD SOURCE CATEGORIES:

Members of the public for all three systems.

ROUTINE USES OF RECORDS MAINTAINED IN THE SYSTEM, INCLUDING CATEGORIES OF USERS AND PURPOSES OF SUCH USES:

(1) To public and private counseling agencies; building associations; developers; financial institutions holding HUD-insured mortgages; Federal, State and local government offices; Consumer Protection agencies; Public Housing Agencies; and State and local real estate and planning Commissions for the purpose of assisting in the resolution of a complaint.

(2) To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

(3) To a congressional office from the record of an individual, in response to an inquiry from the congressional office made at the request of that individual.

(4) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, to otherwise support the Department's mission, or for other research and statistical purposes not otherwise prohibited by law or regulation. Records under this routine use may not be used in whole or in part to make decisions that affect the rights, benefits, or privileges of specific individuals. The results of the matched information may not be disclosed in identifiable form.

(5) To contractors, grantees, experts, consultants and their agents, or others performing or working under a contract, service, grant, cooperative agreement, or other agreement with HUD, when necessary to accomplish an agency function related to a system of records. Disclosure requirements are limited to only those data elements considered relevant to accomplishing an agency function.

(6) To contractors, experts and consultants with whom HUD has a contract, service agreement, assignment or other agreement with the Department, when necessary to utilize relevant data for the purpose of testing new technology and systems designed to enhance program operations and performance.

(7) To appropriate agencies, entities, and persons when: (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm..

(8) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(9) To appropriate Federal, State, local, Tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(10) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components. 8

(11) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Electronic.

POLICIES AND PRACTICES FOR RETRIEVAL OF RECORDS:

Individual records for all three systems can be retrieved by name, phone number, or email address.

POLICIES AND PRACTICIES FOR RENTENTION AND DISPOSAL OF RECORDS:

Public Customer Service records. The system's disposition instructions: destroy 1 year after resolved, or when no longer needed for business use, whichever is appropriate.

ADMINISTRATIVE, TECHNICAL, AND PHYSICAL SAFEGUARDS:

The systems can only be accessed through HUD's Office 365 environment, using all the security safeguards the Department uses for its current operating system. Users must have a HUD authorized account, which HUD authorizes with employment and deactivates once the employee leaves the Department. Customer Relationship Management data is available to employees on a need-to-know basis and systems use role-based security to restrict access to these data. Access to data is granted by an Administrative Security Officer through the Department's secure application access system. Role-based security limits the amount of accessible data to only that permissible by the security role.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

None.

Ladonne White,
Chief Privacy Officer, Office of Administration.

[FR Doc. 2024-25137 Filed 10-29-24; 8:45 am]

BILLING CODE 4210-67-P